DEPARTMENT OF COMMERCE

National Oceanic and Atmospheric Administration

RIN 0648-XA602

Marine Mammals; File No. 16019

AGENCY: National Marine Fisheries Service (NMFS), National Oceanic and Atmospheric Administration (NOAA), Commerce.

ACTION: Notice; receipt of application for permit amendment.

SUMMARY: Notice is hereby given that GeoMarine, Inc. (Responsible Party: Suzanne Bates; Principal Investigator: Amy Whitt), 2201 K Avenue, Suite A2, Plano, TX 75074, has applied for an amendment to Scientific Research Permit No. 16109.

DATES: Written, telefaxed, or email comments must be received on or before July 5, 2012.

ADDRESSES: The application and related documents are available for review by selecting “Records Open for Public Comment” from the Features box on the Applications and Permits for Protected Species home page, https://apps.nmfs.noaa.gov, and then selecting File No. 16109 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Carrie Hubard, (301) 427-8401.

SUPPLEMENTARY INFORMATION: The subject amendment to Permit No. 16109 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 16109, issued on May 3, 2012 (77 FR 27719), authorizes takes of 35 species of cetaceans, four species of pinnipeds, and five species of sea turtles from New Jersey to North Carolina for scientific research. The research involves harassment by vessel approach during shipboard transect surveys. Eleven of the 44 species targeted for research are listed as threatened or endangered: Blue whale (Balaenoptera musculus), fin whale (B. physalus), humpback whale (Megaptera novaeangliae), North Atlantic right whale (Eubalaena glacialis), sei whale (B. borealis), sperm whale (Physeter macrocephalus), green sea turtle (Chelonia mydas), hawksbill sea turtle (Eretmochelys imbricata), loggerhead sea turtle (Caretta caretta), Kemp's ridley sea turtle (Lepidochelys kempii), and leatherback sea turtle (Dermochelys coriacea). The permit expires May 15, 2017.

The permit holder is requesting the permit be amended to increase sei whale takes from 10 to 50 per year based on reviewer comments from the Notice of Receipt published on August 17, 2011 (76 FR 51001). The purpose of the take increase is to gain more information on sei whale habitat use and distribution.

An environmental assessment (EA) and Finding of No Significant Impact (FONSI) (signed May 1, 2012) prepared for the permit has analyzed the requested 50 sei whale annual takes. NMFS determined that 50 sei whale takes would not significantly impact the quality of the human environment and that preparation of an environmental impact statement was not required. The EA and FONSI are available upon request. A Biological Opinion was also prepared for the permit which analyzed 50 sei whale takes (signed May 1, 2012) and concluded that the research would not jeopardize threatened and endangered species or destroy or adversely modify critical habitat. However, the permit authorizes 10 annual takes of sei whales until a new FR notice could be published to allow the public opportunity to comment on the higher take number.

Concurrent with the publication of this notice in the Federal Register, NMFS is forwarding copies of the amendment request to the Marine Mammal Commission and its Committee of Scientific Advisors.

Dated: May 30, 2012.
Tammy C. Adams,
Acting Chief, Permits and Conservation Division, Office of Protected Resources, National Marine Fisheries Service.

[FR Doc. 2012-13575 Filed 6-4-12; 8:45 am]

BILLING CODE 3510-22-P